DEPARTMENT OF TRANSPORTATION

Federal Aviation Administration

14 CFR Part 71

[Docket No. FAA-2010-0428; Airspace Docket No. 10-AEA-13]

Amendment of Class D and E Airspace; Establishment of Class E Airspace; Patuxent River, MD

AGENCY: Federal Aviation Administration (FAA), DOT.

ACTION: Final rule.

SUMMARY: This action amends Class D and E Airspace at Patuxent River Naval Air Station (NAS), Patuxent River, MD, to reflect the part-time operating status of the control tower, and establishes Class E airspace designated as surface areas to accommodate Standard Instrument Approach Procedures (SIAPs) developed for the NAS. This action also corrects the geographical coordinates of the NAS and combines two airspace descriptions. This action will enhance the safety and management of IFR operations at Patuxent River NAS (Trapnell Field).

DATES: Effective 0901 UTC, January 13, 2011. The Director of the Federal Register approves this incorporation by reference action under title 1, Code of Federal Regulations, part 51, subject to the annual revision of FAA Order 7400.9 and publication of conforming amendments.

FOR FURTHER INFORMATION CONTACT: Melinda Giddens, Operations Support Group, Eastern Service Center, Federal Aviation Administration, P.O. Box 20636, Atlanta, Georgia 30320; telephone (404) 305-5610.

SUPPLEMENTARY INFORMATION:

History

On August 9, 2010, the FAA published in the Federal Register a notice of proposed rulemaking to amend Class D and E airspace, and establish Class E surface airspace at Patuxent River NAS (Trapnell Field), Patuxent River, MD (75 FR 47736) Docket No. FAA-2010-0428. Subsequent to publication the FAA received a request from the National Aeronautical Navigation Services to correct the geographic coordinates of the airfield, and for charting purposes, combine two closely located descriptions in both Class E airspace areas at Patuxent River NAS, Patuxent River, MD. This action makes these corrections. With the exception of editorial changes, and the changes described above this rule is the same as that proposed in the NPRM.

Interested persons were invited to participate in this rulemaking effort by submitting written comments on the proposal to the FAA. No comments were received. Class D and E airspace designations are published in paragraph 5000, 6002, and 6004 of FAA Order 7400.9U dated August 18, 2010, and effective September 15, 2010, which is incorporated by reference in 14 CFR 71.1. The Class D and E airspace designations listed in this document will be published subsequently in the Order.

The Rule

This amendment to Title 14, Code of Federal Regulations (14 CFR) part 71 amends Class D airspace and Class E airspace designated as an extension to Class D surface area at Patuxent River NAS (Trapnell Field), Patuxent River, MD, to reflect the part-time operations of the airport control tower, establishing in advance the dates and times by a Notice to Airmen, and establishes Class E surface area airspace to provide controlled airspace required to support the SIAPs developed for Patuxent River NAS. The geographic coordinates of Patuxent River NAS (Trapnell Field) will be corrected to coincide with the FAA's National Aeronautical Navigation Services. The Class E surface area airspace and Class E airspace designated as extensions to Class D surface area 233° and the 235° radials will be combined to coincide with aeronautical charting.

Class D airspace designations, Class E surface airspace designations and Class E airspace designations as extensions to a Class D surface area are published in Paragraph 5000, 6002, and 6004 respectively, of FAA Order 7400.9U, dated August 18, 2010, and effective September 15, 2010, which is incorporated by reference in 14 CFR 71.1. The Class D and Class E airspace designations listed in this document will be published subsequently in the Order.

The FAA has determined that this regulation only involves an established body of technical regulations for which frequent and routine amendments are necessary to keep them operationally current, is non-controversial and unlikely to result in adverse or negative comments. It, therefore, (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of airspace necessary to ensure the safety of aircraft and the efficient use of airspace. This regulation is within the scope of that authority as it amends Class D and existing Class E airspace and establishes Class E airspace designated as surface areas at Patuxent River NAS (Trapnell Field), Patuxent River, MD.

Lists of Subjects in 14 CFR Part 71

Airspace, Incorporation by reference, Navigation (Air).

Adoption of the Amendment

In consideration of the foregoing, the Federal Aviation Administration amends 14 CFR part 71 as follows:

PART 71—DESIGNATION OF CLASS A, B, C, D, AND CLASS E AIRSPACE AREAS; AIR TRAFFIC SERVICE ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9U, Airspace Designations and Reporting Points, dated August 18, 2010, effective September 15, 2010, is amended as follows:

Paragraph 5000 Class D Airspace.

* * * * *

AEA MD D Patuxent River, MD [AMENDED]

Patuxent River NAS (Trapnell Field), MD

(Lat. 38°17′10″ N., long. 76°24′42″ W.)

Chesapeake Ranch Airpark, MD

(Lat. 38°21′40″ N., long. 76°24′19″ W.)

That airspace extending upward from the surface to and including 2,500 feet MSL within a 4.5-mile radius of Patuxent River NAS (Trapnell Field) and within a .5-mile radius of Chesapeake Ranch Airpark excluding that airspace within Restricted Areas R-4005 and R-4007 when active. This Class D airspace area is effective during the specific dates and times established in advance by a Notice to Airmen. The effective date and time will thereafter be continuously published in the Airport Facility Directory.

* * * * *

Paragraph 6002 Class E Airspace Designated as Surface Areas.

* * * * *

AEA MD E2 Patuxent River, MD [NEW]

Patuxent River NAS (Trapnell Field), MD

(Lat. 38°17′10″N., long. 76°24′42″ W.)

Patuxent VORTAC

(Lat. 38°17′16″ N., long. 76°24′01″ W.)

Patuxent River NDB

(Lat. 38°17′09″ N., long. 76°24′11″ W.)

Chesapeake Ranch Airpark, MD

(Lat. 38°21′40″ N., long. 76°24′19″ W.)

That airspace extending upward from the surface within a 4.5-mile radius of Patuxent River NAS (Trapnell Field) and within 1.8 miles each side of the Patuxent VORTAC 045° radial extending from the 4.5-mile radius of Patuxent River NAS to 6.1 miles northeast of the VORTAC; and within 1.8 miles north of and 2.0 miles south of the Patuxent VORTAC 235° radial extending from the 4.5-mile radius to 6.6 miles southwest of the VORTAC; and within 1.8 miles each side of the Patuxent VORTAC 140° radial extending from the 4.5-mile radius to 10.5 miles southeast of the VORTAC; and within a .5-mile radius of Chesapeake Ranch Airpark, excluding that airspace within Restricted Areas R-4005 and R-4007 when active. This Class E airspace area is effective during those times when the Class D airspace is not in effect.

* * * * *

Paragraph 6004 Class E Airspace Areas Designated as an Extension to a Class D Surface Area.

* * * * *

AEA MD E4 Patuxent River, MD [AMENDED]

Patuxent River NAS (Trapnell Field), MD

(Lat. 38°17′10″ N., long. 76°24′42″ W.)

Patuxent VORTAC

(Lat. 38°17′16″ N., long. 76°24′01″ W.)

Patuxent River NDB

(Lat. 38°17′09″ N., long. 76°24′11″ W.)

That airspace extending upward from the surface within 1.8 miles each side of the Patuxent VORTAC 045° radial extending from the 4.5-mile radius of Patuxent River NAS (Trapnell Field) to 6.1 miles northeast of the VORTAC; and within 1.8 miles north of and 2.0 miles south of the Patuxent VORTAC 235° radial extending from the 4.5-mile radius to 6.6 miles southwest of the VORTAC; and within 1.8 miles each side of the Patuxent VORTAC 140° radial extending from the 4.5-mile radius to 10.5 miles southeast of the VORTAC, excluding that airspace within Restricted Areas R-4005 and R-4007 when active. This Class E airspace area is effective during specific dates and times established in advance by a Notice to Airmen. The effective date and time will thereafter be continuously published in the Airport Facility Directory.

Issued in College Park, Georgia, on September 17, 2010.
Myron A. Jenkins,
Acting Manager, Operations Support Group, Eastern Service Center, Air Traffic Organization.

[FR Doc. 2010-24110 Filed 9-27-10; 8:45 am]

BILLING CODE 4910-13-P